DEPARTMENT OF ENERGY

Federal Energy Regulatory Commission

Combined Notice of Filings #2

Take notice that the Commission received the following electric rate filings:

Docket Numbers: ER17-1715-001.

Applicants: Pacific Gas and Electric Company.

Description: Tariff Amendment: Errata to May 2017 Western WDT Service Agreement Biannual Filing to be effective 8/1/2017.

Filed Date: 6/15/17.

Accession Number: 20170615-5144.

Comments Due: 5 p.m. ET 7/6/17.

Docket Numbers: ER17-1835-000.

Applicants: PJM Interconnection, L.L.C.

Description: § 205(d) Rate Filing: Original Service Agreement No. 4722; Queue AC1-118 (WMPA) to be effective 5/17/2017.

Filed Date: 6/15/17.

Accession Number: 20170615-5072.

Comments Due: 5 p.m. ET 7/6/17.

Docket Numbers: ER17-1836-000.

Applicants: Nautilus Power, LLC.

Description: § 205(d) Rate Filing: Nautilus MBR Tariff to be effective6/15/2017.

Filed Date: 6/15/17.

Accession Number: 20170615-5077.

Comments Due: 5 p.m. ET 7/6/17.

Docket Numbers: ER17-1837-000.

Applicants: PJM Interconnection, L.L.C.

Description: § 205(d) Rate Filing: Queue Position #AC1-027, Original Service Agreement No. 4727 to be effective 5/17/2017.

Filed Date: 6/15/17.

Accession Number: 20170615-5109.

Comments Due: 5 p.m. ET 7/6/17.

Docket Numbers: ER17-1838-000.

Applicants: PJM Interconnection, L.L.C.

Description: § 205(d) Rate Filing: Queue Position #AC1-112, Original Service Agreement No. 4728 to be effective 5/17/2017.

Filed Date: 6/15/17.

Accession Number: 20170615-5110.

Comments Due: 5 p.m. ET 7/6/17.

Docket Numbers: ER17-1839-000.

Applicants: Duke Energy Progress, LLC.

Description: § 205(d) Rate Filing: DEP-RS No. 172 and 180 Revised PPAs to be effective 7/1/2017.

Filed Date: 6/15/17.

Accession Number: 20170615-5130.

Comments Due: 5 p.m. ET 7/6/17.

Docket Numbers: ER17-1840-000.

Applicants: Canton Mountain Wind, LLC.

Description: Baseline eTariff Filing: Application for Order Accepting Initial Tariff to be effective 8/14/2017.

Filed Date: 6/15/17.

Accession Number: 20170615-5139.

Comments Due: 5 p.m. ET 7/6/17.

Docket Numbers: ER17-1841-000.

Applicants: Moxie Freedom LLC.

Description: Baseline eTariff Filing: MBR tariff to be effective 8/15/2017.

Filed Date: 6/15/17.

Accession Number: 20170615-5141.

Comments Due: 5 p.m. ET 7/6/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 15, 2017.
Kimberly D. Bose,
Secretary.

[FR Doc. 2017-12925 Filed 6-20-17; 8:45 am]

BILLING CODE 6717-01-P